DEPARTMENT OF ENERGY

Federal Energy Regulatory Commission

Combined Notice of Filings

Take notice that the Commission has received the following Natural Gas Pipeline Rate and Refund Report filings:

Filings Instituting Proceedings

Docket Numbers: PR23-28-000.

Applicants: New Mexico Gas Company, Inc.

Description: § 284.123(g) Rate Filing: Amended Statement of Operating Conditions to be effective 1/1/2023.

Filed Date: 1/30/23.

Accession Number: 20230130-5239.

Comment Date: 5 p.m. ET 2/21/23.

284.123(g) Protest: 5 p.m. ET 3/31/23.

Docket Numbers: PR23-29-000.

Applicants: Wisconsin Power and Light Company.

Description: § 284.123(g) Rate Filing: WPL Statement of Operating Conditions Update 2023 to be effective 2/1/2023.

Filed Date: 1/31/23.

Accession Number: 20230131-5010.

Comment Date: 5 p.m. ET 2/21/23.

284.123(g) Protest: 5 p.m. ET 4/3/23.

Docket Numbers: PR23-30-000.

Applicants: NorthWestern Corporation.

Description: § 284.123 Rate Filing: Revised Transportation and Storage Rates (Annual Tax Tracker) to be effective 1/1/2023.

Filed Date: 1/31/23.

Accession Number: 20230131-5069.

Comment Date: 5 p.m. ET 2/21/23.

Docket Numbers: RP23-379-000.

Applicants: LA Storage, LLC.

Description: § 4(d) Rate Filing: Filing of Negotiated Rate, Conforming IW Agreements 1.30.23 to be effective 2/1/2023.

Filed Date: 1/30/23.

Accession Number: 20230130-5184.

Comment Date: 5 p.m. ET 2/13/23.

Docket Numbers: RP23-380-000.

Applicants: Transcontinental Gas Pipe Line Company, LLC.

Description: § 4(d) Rate Filing: Negotiated Rates—Cherokee AGL—Replacement Shippers—Feb 2023 to be effective 2/1/2023.

Filed Date: 1/31/23.

Accession Number: 20230131-5000.

Comment Date: 5 p.m. ET 2/13/23.

Docket Numbers: RP23-381-000.

Applicants: Aurora West LLC,KAAPA Partners Aurora, LLC.

Description: Joint Petition for Temporary Waiver of Capacity Release Regulations, et al. of Aurora West LLC, et al. under RP23-381.

Filed Date: 1/30/23.

Accession Number: 20230130-5277.

Comment Date: 5 p.m. ET 2/6/23.

Docket Numbers: RP23-382-000.

Applicants: El Paso Natural Gas Company, L.L.C.

Description: § 4(d) Rate Filing: Negotiated Rate Agmt Update (Conoco—Feb 23) to be effective 2/1/2023.

Filed Date: 1/31/23.

Accession Number: 20230131-5038.

Comment Date: 5 p.m. ET 2/13/23.

Docket Numbers: RP23-383-000.

Applicants: Transwestern Pipeline Company, LLC.

Description: Compliance filing: Alert Day Penalty Report on 1-31-2023 to be effective N/A.

Filed Date: 1/31/23.

Accession Number: 20230131-5040.

Comment Date: 5 p.m. ET 2/13/23.

Docket Numbers: RP23-384-000.

Applicants: Dauphin Island Gathering Partners.

Description: § 4(d) Rate Filing: Storm Surcharge 2023 to be effective 4/1/2023.

Filed Date: 1/31/23.

Accession Number: 20230131-5113.

Comment Date: 5 p.m. ET 2/13/23.

Docket Numbers: RP23-385-000.

Applicants: East Tennessee Natural Gas, LLC.

Description: § 4(d) Rate Filing: ETNG Address Change Filing to be effective 8/1/2023.

Filed Date: 1/31/23.

Accession Number: 20230131-5127.

Comment Date: 5 p.m. ET 2/13/23.

Docket Numbers: RP23-386-000.

Applicants: Southeast Supply Header, LLC.

Description: § 4(d) Rate Filing: SESH Address Change Filing to be effective 8/1/2023.

Filed Date: 1/31/23.

Accession Number: 20230131-5130.

Comment Date: 5 p.m. ET 2/13/23.

Docket Numbers: RP23-387-000.

Applicants: Rockies Express Pipeline LLC.

Description: § 4(d) Rate Filing: REX 2023-01-31 Negotiated Rate Agreement to be effective 2/1/2023.

Filed Date: 1/31/23.

Accession Number: 20230131-5134.

Comment Date: 5 p.m. ET 2/13/23.

Docket Numbers: RP23-388-000.

Applicants: Saltville Gas Storage Company L.L.C.

Description: § 4(d) Rate Filing: SGSC Address Change Filing to be effective 8/1/2023.

Filed Date: 1/31/23.

Accession Number: 20230131-5135.

Comment Date: 5 p.m. ET 2/13/23.

Docket Numbers: RP23-389-000.

Applicants: Northern Natural Gas Company.

Description: § 4(d) Rate Filing: 20230131 Negotiated Rate to be effective 2/1/2023.

Filed Date: 1/31/23.

Accession Number: 20230131-5137.

Comment Date: 5 p.m. ET 2/13/23.

Docket Numbers: RP23-390-000.

Applicants: Steckman Ridge, LP.

Description: § 4(d) Rate Filing: SR Address Change Filing to be effective 8/1/2023.

Filed Date: 1/31/23.

Accession Number: 20230131-5139.

Comment Date: 5 p.m. ET 2/13/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP21-1188-005.

Applicants: Texas Eastern Transmission, LP.

Description: Compliance filing: RP21-1001 and 1188 TETLP Settlement Compliance Filing to be effective 1/1/2023.

Filed Date: 1/30/23.

Accession Number: 20230130-5145.

Comment Date: 5 p.m. ET 2/13/23.

Docket Numbers: RP22-1155-000.

Applicants: Northwest Pipeline LLC.

Description: Refund Report: Report of Federal Income Tax Refunds to be effective N/A.

Filed Date: 1/31/23.

Accession Number: 20230131-5033.

Comment Date: 5 p.m. ET 2/13/23.

Docket Numbers: RP22-1222-002.

Applicants: Natural Gas Pipeline Company of America LLC.

Description: Compliance filing: Settlement Compliance—Implementation of Other Tariff Provisions to be effective 4/1/2023.

Filed Date: 1/30/23.

Accession Number: 20230130-5094.

Comment Date: 5 p.m. ET 2/13/23.

Any person desiring to protest in any the above proceedings must file in accordance with Rule 211 of the Commission's Regulations (18 CFR 385.211) on or before 5 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 31, 2023.
Debbie-Anne A. Reese,
Deputy Secretary.

[FR Doc. 2023-02434 Filed 2-3-23; 8:45 am]

BILLING CODE 6717-01-P